DEPARTMENT OF HOUSING AND URBAN DEVELOPMENT

[Docket No. FR-5952-N-01]

Authority To Accept Unsolicited Proposals for Research Partnerships

AGENCY: Office of the Assistant Secretary for Policy Development and Research, HUD.

ACTION: Notice.

SUMMARY: This notice announces that HUD's Office of Policy Development and Research (PD&R) has the authority to accept unsolicited research proposals that address current research priorities. In accordance with statutory requirements, the research projects must be funded at least 50 percent by philanthropic entities or Federal, state, or local government agencies. This notice announces that HUD is accepting research proposals and provides a general description of information that should be included in any research proposal.

DATES: There are no set deadlines. Proposals may be submitted at any time and will be evaluated as they are received; however, available funds will be awarded as proposals are received, evaluated, and approved, until funds are exhausted.

FOR FURTHER INFORMATION CONTACT: Questions should be directed by email to ResearchPartnerships@hud.gov, by telephone to Madlyn Wohlman-Rodriguez at 202-402-5939 or Kinnard Wright at 202-402-7495, or by mail to the Department of Housing and Urban Development, Office of University Partnerships, 451 7th Street SW., Room 8226, Washington, DC 20410. These are not toll-free numbers. Persons with speech or hearing impairments may access these number through TTY by calling the Federal Relay Service, toll-free, at 800-877-8339.

I. Funding Opportunity Description

A. Program Description, Requirements and Purpose

HUD developed the Research Partnerships vehicle to allow greater flexibility in addressing important policy questions and to better utilize external expertise in evaluating the local innovations and effectiveness of programs impacting residents of urban, suburban, rural and tribal areas. Through this notice, HUD is able to accept unsolicited research proposals that address current research priorities and allow PD&R to participate in innovative research projects that inform HUD's policies and programs. These projects are meant to align with PD&R's research priorities and help the HUD answer key policy and programmatic questions in ways that can inform new policy and program development efforts.

B. Authority

The Consolidated Appropriations Act, 2016, (Pub. L. 114-53, approved December 11, 2015) (FY 2016 appropriation) authorizes PD&R to enter into non-competitive cooperative agreements for research projects that are aligned with PD&R's research priorities and that will help inform HUD's policies and programs.

C. Program Description

1. Research Priorities. The two primary documents that provide a framework for HUD's research priorities are the FY2010-2015 Strategic Plan (available at, http://portal.hud.gov/hudportal/HUD?src=/program_offices/cfo/stratplan), which specifies the Department's mission and strategic goals for program activities, and the HUD Research Roadmap (available at, https://www.huduser.gov/portal/about/pdr_roadmap.html), which takes the strategic plan as a starting point and integrates extensive input from diverse stakeholder groups to define a five-year research agenda. PD&R developed and published this research agenda to focus research resources on timely, policy-relevant research questions that lie within the Department's area of comparative advantage. This focus on comparative advantage has a corollary, which is the accompanying need for PD&R to collaborate with other research organizations to support their comparative advantage in areas that are mutually important.

The authority that Congress provided HUD to enter into noncompetitive cooperative agreements for research is a central tool for fulfilling the Roadmap's vision for research collaboration. Research proposals should be developed that inform important policy and program objectives of HUD that are not otherwise being addressed and that focus on one of HUD's research priorities, including:

(1) Strengthening Housing Markets: Homeownership and Housing Finance. HUD is interested in research in many areas of homeownership and housing finance, which include, but are not limited to:

(a) Improving outcomes for struggling homeowners and communities in the areas of foreclosures, mortgage modification protocols, and real-estate owned properties;

(b) Finding ways that are safer for both borrowers and lenders to extend mortgage credit to first-time homebuyers and homeowners with less-than-stellar credit; and

(c) Updating federal support structures for single-family and multifamily housing finance in a reformed housing finance system.

(2) Affordable Quality Rental Housing. HUD is interested in research that improves the efficiency and effectiveness of HUD's housing programs (e.g., public housing, Housing Choice Vouchers, assisted multifamily programs, and FHA insurance) which include, but are not limited to:

(a) Improving program operations and responses to changing market conditions;

(b) Identifying rent subsidy approaches that could more efficiently and beneficially meet the full range of housing needs; and

(c) Better understanding how HUD's programs are affected by tenant and landlord behavior.

(3) Housing as a platform for improving quality of life. HUD is interested in how HUD-provided housing assistance can be best used to improve quality of life, including, but not limited to:

(a) Improving educational outcomes and early learning and development;

(b) Improving health outcomes;

(c) Increasing economic security and self-sufficiency; and

(d) Improving housing stability for vulnerable populations, including the elderly, people with disabilities, homeless families and individuals, and those individuals and families at risk of becoming homeless.

To evaluate the ability of housing assistance to positively affect these various outcomes requires reaching beyond the sphere of housing to health, education, and other areas, which may involve targeted provision of cost-effective services in association with housing.

(4) Resilient and inclusive communities. HUD's goal of advancing resilient and inclusive communities seeks innovative and transformational evidence-based approaches to deal with long-standing and emerging community development challenges in suburban, rural and tribal areas. HUD is interested in research questions such as, but not limited to:

(a) Leveraging cost-effective housing technology in HUD-funded housing or other housing to accomplish key HUD priority goals;

(b) Understanding and addressing persistent segregation along racial, ethnic and economic lines, including the role of promising community development and housing strategies for strengthening communities;

(c) Strengthening community resilience in the face of climate change, disasters, pestilence and energy shocks;

(d) Improving integrated and regional planning for cross-agency alignment, such as land use and transportation.

(5) HUD Assets. HUD has made, and continues to make, significant investments in “Research Assets,” as described below, including program demonstrations and in the production of datasets, that PD&R is interested in seeing leveraged in ways that may, or may not, be specifically referenced in the Research Roadmap or HUD's Strategic Plan. Such studies demonstrate a broader usefulness of HUD's Research Assets that further increases the return on these investments for the taxpayer.

2. HUD's Research Assets. In considering potential research partnerships, PD&R urges organizations to consider ways to take advantage of key research assets that the Research Roadmap identifies as part of HUD's comparative advantage.

(1) HUD demonstrations. HUD values demonstrations as a method for evaluating new policy and program initiatives and significantly advancing evidence-based policy, especially when rigorous random-assignment methods are feasible. HUD also is interested in research opportunities that take advantage of completed and ongoing demonstrations. For example, the Moving to Opportunity demonstration was completed in 2011, but researchers continue to answer relevant policy questions using the existing data. Examples of demonstrations that are underway include Choice Neighborhoods, Family Options, the Rental Assistance Demonstration, Pre-Purchase Counseling Outcome Study, and Rent Reform. Electronic versions of published HUD research can be found at: https://www.huduser.gov/portal/publications/pdrpubli.html.

(2) HUD data infrastructure. HUD makes significant investments to improve and support the nation's housing data, so submitting institutions are encouraged to consider opportunities to use HUD-sponsored survey data and administrative data. The American Housing Survey (AHS) is one of HUD's largest research investments. The AHS provides a wealth of data on size and composition of the nation's housing inventory that researchers could use more effectively to address questions about housing market dynamics. The AHS, the 2012 Rental Housing Finance Survey, and other datasets sponsored by PD&R, along with HUD administrative data made available by PD&R, represent HUD research assets that PD&R encourages the use, and further analysis of, through Research Partnerships. Data assets are described at: https://www.huduser.gov/portal/pdrdatas_landing.html.

D. Other Requirements

1. Protection of Human Research Subjects. HUD will require successful applicants to comply with requirements of the federal Common Rule (45 CFR part 46) for protecting human research subjects when applicable. Compliance may require grantees to seek review and approval of research plans by an Institutional Review Board (IRB). For research requiring an IRB review, work plans shall identify the IRB that the awardee will use and factor in the necessary cost and time involved in that review. HUD will require awardees to provide appropriate assurances and certifications of compliance before human subjects research begins.

2. Privacy. Submission of any information to databases (whether Web site, computer, paper, or other format) of personal identifiable information is subject to the protections of the Privacy Act of 1974. You should also check to ensure you meet state and local privacy regulations.

3. Cost Sharing. The Uniform Administrative Requirements, Cost Principles, and Audit Requirements for Federal Awards, set forth in 2 CFR part 200, shall apply to this Federal award. Cost sharing or matching means the portion of project costs not paid by Federal funds (unless otherwise authorized by Federal statute.) Applicants should refer to 2 CFR 200.306 for specific requirements.

4. Data Only Requests. For those who are interested in requesting only HUD data (no funds), a HUD data license agreement will be required. To obtain a copy of the data license application go to the following Web site: https://www.huduser.gov/portal/research/pdr_data-license.html. Please be advised that a data license will only be considered for research that is in alignment with one of the research priorities listed in this notice. Applications may be submitted to HUD at DataLicense@hud.gov. Upon receipt, the application will be forwarded to the appropriate PD&R office for review and approval.

II. Description of Awards

A. Available Funds

HUD is making approximately $1 million available for Research Partnerships. Additional funds may become available for award as a result of HUD's efforts to recapture unused funds or use carryover funds. Use of these funds will be subject to statutory constraints.

B. Number of Awards

The number of awards will be based on the number of proposals HUD reviews, approves, and funds.

C. Period of Performance

The period of performance will be determined by the applicant's proposal and subject to negotiation by HUD.

D. Type of Funding Instrument

Funding Instrument Type: Cooperative Agreement.

III. Eligibility Information

A. Eligible Applicants

Eligible applicants under this Notice include academic institutions, philanthropic entities, state and units of local government, not-for-profit and for-profit institutions located in the United States. For-profit firms are not allowed to earn a fee (i.e., make a profit from the project).

B. Cost Sharing

Cost sharing is required for research projects to be eligible for funding through HUD's non-competitive cooperative agreement authority. Research projects must include at least a 50 percent cost share from philanthropic organizations, Federal, state, local government agencies, or a combination of these entities. For the purposes of the cost-sharing requirement, HUD defines a philanthropic entity as the subset of 501(c)(3) organizations that directly fund research activities. These include private foundations, educational institutions that may have a separate foundation, public charities, and operating foundations. Philanthropic entities may include foreign entities. HUD will not count waiver of overhead or similar costs as cost-sharing contributions.

IV. Proposal and Submission Information

A. Proposal Submission

All proposals should be submitted electronically to ResearchPartnerships@hud.gov, or by mail to: U.S. Department of Housing and Urban Development, Office of University Partnerships, 451 7th Street SW., Room 8226, Washington, DC 20410, ATTENTION: Research Partnerships

B. Content and Form of Proposal Submission

Proposals should contain sufficient information for PD&R to identify whether the research would meet statutory requirements for cost sharing and alignment with the research priorities identified in Section I.C.1 of this Notice. At a minimum, proposals must include:

1. Proposal Abstract. Applicants should provide a Proposal Abstract with the project title, the names and affiliations of all investigators, a summary of the objectives, study design and expected results, and the total funds requested.

2. Points of Contact. Applicants should clearly identify the name of the entity(s) submitting the proposal and detailed contact information for the point of contact;

3. Key Personnel. Applicants should provide information on key personnel that will be engaged with the project. HUD will assess the qualifications of key personnel to carry out the proposed study as evidenced by academic and professional background, publications, and recent (within the past 5 years) research experience. The proposed Principal Investigator must directly represent and be compensated directly by the applicant for his or her role in the proposed study. Publications and/or research experience are considered relevant if they required the acquisition and use of knowledge and skills that can be applied in the planning and execution of the technical study that is proposed.

4. Research Proposal Description. Applicants should provide a clear description of the research project, including the methodology being used, and its alignment with the PD&R research priorities identified. Specific components should include:

(1) Clearly and thoroughly describe your proposed study and its design, and identify the major objectives;

(2) The study should be presented as a logical sequence of steps or phases with individual tasks described for each phase;

(3) Your narrative should reflect the relevant literature, which should be thoroughly cited in your application. Your proposed study will be judged in part on the soundness of the underlying body of research upon which it is based and the clarity and soundness of your summary and interpretation of this research base;

(4) Describe the statistical basis for your study design and demonstrate that you would have adequate statistical power to test your stated hypotheses and achieve your study objectives;

(5) Discuss your plans for data management, analysis, and archiving;

(6) You should identify any important “decision points” in your study plan;

(7) You should describe/list deliverables and associated timeframes; and

(8) You should demonstrate that it is clearly feasible to complete the study within the proposed period of performance and successfully achieve your objectives.

5. Budget. Applicants should provide a detailed budget with line items including the amount of the HUD share and the contributions of any partners (cost sharing component) and/or the submitting institution. HUD strongly encourages using form HUD-424CBW to detail your budget request. The form is available at: https://www.hudexchange.info/resource/304/hud-form-424cbw/. Proposals for research partnerships that have already been submitted to HUD as part of a grant competition are ineligible as the subject of a non-competitive cooperative agreement.

C. Review and Selection Process

1. Proposals that meet all of the threshold requirements will be eligible for review and rating.

2. Proposals will be reviewed by individuals who are knowledgeable in the field covered by the research proposal.

3. As required by the statutory authority within the appropriations bill, HUD will report each award provided through a cooperative agreement in the Federal Funding Accountability and Transparency Act Sub-award Reporting System created under the Federal Funding Accountability and Transparency Act of 2006.

Dated: June 7, 2016.
Matthew E. Ammon
General Deputy Assistant Secretary for Policy Development and Research.

[FR Doc. 2016-13945 Filed 6-10-16; 8:45 am]

BILLING CODE 4210-67-P